DEPARTMENT OF ENERGY

Federal Energy Regulatory Commission

[Docket No. RP04-109-000]

Eastern Shore Natural Gas Company; Notice of Proposed Changes in FERC Gas Tariff

December 24, 2003.

Take notice that on December 16, 2003, Eastern Shore Natural Gas Company (Eastern Shore) tendered for filing as part of its FERC Gas Tariff, Second Revised Volume No. 1, the following revised tariff sheets proposed to be effective January 15, 2004:

Second Revised Tariff Sheet No. 217

Second Revised Tariff Sheet No. 221

Eastern Shore states that the purpose of this filing is to revise its tariff to “de-link” its deferred GRO account from section 35, Refund of Cash Out Revenues in Excess of Costs and include such deferred account as a component of its current Fuel Retention Percentage, in much the same manner as is done in numerous other pipeline tariffs. Eastern Shore also states that such revision would permit it to recover on a more current basis any such under-recoveries from those customers on its system at the time such under-recovery was incurred.

Eastern Shore further states that it proposes to revise section 35 of its GT&C to permit it to calculate and implement an annual surcharge for an under-recovered balance (i.e, cash out costs in excess of cash out revenues) at the end of the annual cash out period.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E3-00678 Filed 12-31-03; 8:45 am]

BILLING CODE 6717-01-P